DEPARTMENT OF ENERGY

Federal Energy Regulatory Commission

Notice of Technical Conference and Extension of Comment Date

October 9, 2007.

Direct Energy Services, LLC, Docket No. RC07-4-000.

Sempra Energy Solutions LLC, Docket No. RC07-6-000.

Strategic Energy, L.L.C., Docket No. RC07-7-000.

Take notice that on October 12, 2007, a technical conference will be held at the Federal Energy Regulatory Commission to discuss appeals of the North American Electric Reliability Corporation's (NERC) compliance registry determinations regarding Direct Energy Services, LLC (Direct), Sempra Energy Solutions LLC (Sempra) and Strategic Energy, L.L.C. (Strategic). This technical conference was established in an Order Establishing Technical Conference in the above dockets, issued September 26, 2007.¹ It will be held at the headquarters of the Federal Energy Regulatory Commission, 888 First Street, NE., Washington, DC from 11 a.m.-2 p.m. (EST).

¹ Direct Energy Services, LLC, et al., 120 FERC ¶ 61,280 (2007).

The technical conference will consist of a discussion between Commission staff and representatives of NERC and ReliabilityFirst Corporation (ReliabilityFirst). Direct, Sempra and Strategic are also invited to participate. The primary question to be addressed is whether NERC has adequately justified its determination that ReliabilityFirst properly registered Direct, Sempra and Strategic as load-serving entities (LSEs).

NERC and ReliabilityFirst will be asked to address issues concerning the decision to register Direct, Sempra and Strategic, including but not limited to: the nature and extent of any gap in reliability that may result from their not being registered as an LSE; the circumstances within the ReliabilityFirst region that justify their registration as LSEs, while other Regional Entities have registered retail power marketers only as purchasing-selling entities; the identification of the Reliability Standard requirements that would apply to a retail power marketer registered as an LSE; support for the conclusions (i) that the loads served by Direct, Sempra and Strategic are directly connected to the Bulk-Power System and (ii) that retail power marketers within the ReliabilityFirst region, in the aggregate, impact Bulk-Power System reliability; and alternative solutions for addressing any reliability gaps that may be identified.

The conference is open for the public to attend. The conference will not be transcribed and telephone participation will not be available.

The Commission will accept written comments on the discussion at this technical conference no later than 5 p.m. Eastern Time on October 29, 2007. Further, in notices of filing issued September 17, 2007, in the above-captioned dockets, the Commission set an October 11, 2007 comment date for the submission of interventions, comments and protests. The Commission is extending the comment date for the submission of interventions, comments and protests in the above-captioned dockets until October 29, 2007, to coincide with the comment due date for comments on the discussion at the technical conference.

Commission conferences are accessible under section 508 of the Rehabilitation Act of 1973. For accessibility accommodations please send an e-mail to accessibility@ferc.gov or call toll free 1-866-208-3372 (voice) or 202-208-1659 (TTY), or send a FAX to 202-208-2106 with the required accommodations.

For more information about this conference, please contact: Sarah McKinley, Office of External Affairs, Federal Energy Regulatory Commission, (202) 502-8004, sarah.mckinley@ferc.gov.

Kimberly D. Bose,
Secretary.

[FR Doc. E7-20316 Filed 10-15-07; 8:45 am]

BILLING CODE 6717-01-P